ENVIRONMENTAL PROTECTION AGENCY

40 CFR Part 62

[EPA-R04-OAR-2022-0741; FRL-10507-02-R4]

South Carolina; Approval and Promulgation of State Plans for Designated Facilities and Pollutants; Control of Emissions From Existing Municipal Solid Waste Landfills

AGENCY: Environmental Protection Agency (EPA).

ACTION: Final rule.

SUMMARY: The Environmental Protection Agency (EPA) is approving a Clean Air Act (CAA) plan submitted by the South Carolina Department of Health and Environmental Control (SCDHEC) on January 19, 2022. This State plan was submitted to fulfill the requirements of the CAA and is responsive to EPA's promulgation of Emissions Guidelines (EG) and Compliance Times for municipal solid waste (MSW) landfills. The South Carolina State plan establishes performance standards and other operating requirements for existing MSW landfills and provides for the implementation and enforcement of those standards and requirements.

DATES: This rule is effective on April 11, 2024. The incorporation by reference of certain material listed in the rule is approved by the Director of the Federal Register as of April 11, 2024.

ADDRESSES: EPA has established a docket for this action under Docket ID Number EPA-R04-OAR-2022-0741. All documents in the docket are listed on the https://www.regulations.gov website. Although listed in the index, some information may not be publicly available, e.g., confidential business information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information.

FOR FURTHER INFORMATION CONTACT: Tracy Watson, Regulatory and Community Air Toxics Section, Air Analysis and Support Branch, Air and Radiation Division, U.S. Environmental Protection Agency, Region 4, 61 Forsyth St. SW, Atlanta, Georgia 30303. The telephone number is (404) 562-8998. Mr. Watson can also be reached via electronic mail at watson.marion@epa.gov.

SUPPLEMENTARY INFORMATION:

I. Background

The EPA published a notice of proposed rulemaking (NPRM) for the State of South Carolina on February 14, 2023 (88 FR 9409). In the NPRM, the EPA proposed the approval of a CAA section 111(d) State plan submitted by the SCDHEC on January 19, 2022. The EPA's analysis of the South Carolina State plan may be found in the aforementioned NPRM and the technical support document (TSD) associated with this docket. Comments on the EPA's proposed approval of the South Carolina State plan for existing MSW landfills were due on or before March 16, 2023. The EPA received no comments during the public comment period.

II. Final Action

The EPA is finalizing approval of South Carolina's section 111(d) State plan for MSW landfills. The State plan was submitted in full compliance with the requirements of 40 CFR part 60, subparts B and Cf. Therefore, EPA is amending 40 CFR part 62, subpart PP to reflect this approval action. This approval is based on the rationale provided in the NPRM and discussed in further detail in the TSD associated with this rulemaking. The EPA's approval is in accordance with the general provisions of plan approval found in 40 CFR part 60, subpart B and 40 CFR part 62, subpart A, and is pursuant to the Agency's role under 42 U.S.C. 7411(d). The EPA's approval of the South Carolina plan is limited to those landfills that meet the criteria established in 40 CFR part 60, subpart Cf, and grants the State authority to implement and enforce the performance standards and source requirements of the EG, except in those cases where authorities are specifically reserved for the EPA Administrator or his designee. Authorities retained by the EPA Administrator are those listed in 40 CFR 60.30f(c).

III. Incorporation by Reference

In accordance with requirements of 1 CFR 51.5, the EPA is finalizing regulatory text that includes incorporation by reference of South Carolina Code Annotated Regulations (S.C. Code Ann. Regs.) 61-62.60, Subpart Cf, which became effective in the State of South Carolina on November 26, 2021. This incorporation establishes emission standards and compliance times for the control of air pollutants from certain MSW landfills that commenced construction, modification, or reconstruction on or before July 17, 2014. S.C. Code Ann. Regs. 61-62.20, Subpart Cf provides details regarding South Carolina's adoption of the applicability provisions, compliance times, emission guidelines, operational standards, test methods, compliance provisions, monitoring requirements, reporting guidelines, recordkeeping guidelines, specifications for active landfill gas collection systems, and definitions contained in EPA's emission guidelines for existing municipal solid waste landfills (40 CFR part 60, subpart Cf). The emissions standards and compliance times established within the South Carolina State plan are at least as stringent as those required by the EG for existing MSW landfills subject to Subpart Cf. The EPA has made, and will continue to make, these materials generally available through the docket for this action, EPA-R04-OAR-2022-0741, at https://www.regulations.gov and at the EPA Region 4 Office (please contact the person identified in the For Further Information Contact section of this preamble for more information). This incorporation by reference has been approved by the Office of the Federal Register as of April 11, 2024, and the plan is federally enforceable under the CAA as of the effective date of this final rulemaking.

IV. Statutory and Executive Order Reviews

In reviewing State plan submissions, EPA's role is to approve State choices, provided they meet the criteria of the CAA. Accordingly, this action merely approves State law as meeting Federal requirements and does not impose additional requirements beyond those imposed by State law. For that reason, this action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

Executive Order 12898 (59 FR 7629, February 16, 1994) directs Federal agencies, to the greatest extent practicable and permitted by law, to make environmental justice part of their mission by identifying and addressing, as appropriate, disproportionately high and adverse human health or environmental effects of their programs, policies, and activities on minority populations (people of color and/or Indigenous peoples) and low-income populations.

The EPA believes that the human health and environmental conditions that exist prior to this action do not result in disproportionate and adverse effects on people of color, low-income populations, and/or Indigenous peoples. EPA performed a screening-level analysis using EPA's EJSCREEN to identify environmental burdens and susceptible populations in communities surrounding MSW landfill facilities in the State. The EJSCREEN did not identify any such communities surrounding the MSW landfill facilities in the State. The results of the demographic analysis are presented in the EJ Screening Report for Municipal Solid Waste Landfills, a copy of which is available in the docket for this action, Docket ID No. EPA-R04-EPA-2022-0741.

The EPA believes that this action is not likely to result in new disproportionate and adverse effects on people of color, low-income populations, and/or Indigenous peoples because the State plan would reduce emissions of landfill gas, which contains both nonmethane organic compounds and methane. Nonmethane organic compounds can contain various organic hazardous air pollutants (HAPs) and volatile organic compounds (VOCs). Nearly 30 organic HAPs have been identified in uncontrolled landfill gas, with at least one identified as a known human carcinogen. VOC emissions are precursors to particulate matter and ozone formation, both of which are associated with health effects such as premature mortality for adults and infants, cardiovascular morbidity such as heart attacks, and respiratory morbidity such as asthma attacks, acute bronchitis, and other respiratory symptoms. Additionally, the State plan is expected to result in a reduction of carbon dioxide due to reduced demand by landfills for electricity from the grid, as landfills will generate electricity from landfill gas. These abated emissions will improve air quality and reduce the effects associated with exposure to landfill gas emissions, protecting public health and welfare. The EPA has determined that this action increases the level of environmental protection for all affected populations without having any disproportionately high and adverse human health or income or environmental effects on any population, including any minority, low-income, or indigenous populations. To the extent that any minority, low-income, or indigenous subpopulation is disproportionately impacted by landfill gas emissions due to the proximity of their homes to sources of these emissions, that subpopulation also stands to see increased environmental and health benefit from the emission reductions called for by this action.

In addition, this proposed approval of South Carolina's State plan for existing MSW landfills does not have Tribal implications as specified by Executive Order 13175 (65 FR 67249, November 9, 2000), because the State plan is not approved to apply in Indian country located in the State, and the EPA notes that it will not impose substantial direct costs on Tribal governments or preempt Tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by May 13, 2024. Filing a petition for reconsideration by the Administrator of this final rule does not affect the finality of this action for the purposes of judicial review nor does it extend the time within which a petition for judicial review may be filed and shall not postpone the effectiveness of such rule or action. This action may not be challenged later in proceedings to enforce its requirements. See section 307(b)(2).

List of Subjects in 40 CFR Part 62

Environmental protection, Administrative practice and procedure, Air pollution control, Incorporation by reference, Intergovernmental relations, Landfills, Methane, Ozone, Reporting and recordkeeping requirements, Sulfur oxides, Volatile organic compounds.

Date: March 1, 2024.
Jeaneanne Gettle,
Acting Regional Administrator Region 4.

For the reasons stated in the preamble, the Environmental Protection Agency amends 40 CFR part 62 as follows:

PART 62—APPROVAL AND PROMULGATION OF STATE PLANS FOR DESIGNATED FACILITIES AND POLLUTANTS

1. The authority citation for part 62 continues to read as follows:

Authority: 42 U.S.C. 7401 et seq.

2. Revise § 62.10160 and the undesignated center heading above it to read as follows:

Emissions From Existing Municipal Solid Waste Landfills—Section 111(d) Plan

§ 62.10160 Identification of sources.

(a) Identification of plan. South Carolina's State Plan for Existing Municipal Solid Waste Landfills, as submitted on January 19, 2022. The plan includes the regulatory provisions cited in paragraph (d) of this section, which EPA incorporates by reference.

(b) Identification of sources. The plan applies to each existing municipal solid waste landfill in the State of South Carolina that commenced construction on or before July 17, 2014, as such landfills are defined in 40 CFR 60.41f and 40 CFR part 60.

(c) Effective date. The effective date of the plan is April 11, 2024.

(d) Incorporation by reference. Material listed in this paragraph (d) is incorporated by reference into this section with the approval of the Director of the Federal Register under 5 U.S.C. 552(a) and 1 CFR part 51. All approved material is available for inspection at the EPA and at the National Archives and Records Administration (NARA). Contact EPA at: EPA Region 4 office, 61 Forsyth St. SW, Atlanta, Georgia 30303, 404-562-9900. For information on the availability of this material at NARA, visit www.archives.gov/federal-register/cfr/ibr-locations or email fr.inspection@nara.gov. The material may be obtained from the State of South Carolina—The Legislative Council of the General Assembly, Office of the State Register, Fourth Floor, Rembert C. Dennis Building, 1000 Assembly Street, Columbia, SC 29201; phone: (803) 212-4500; email: REG@scstatehouse.gov; website: https://www.scstatehouse.gov.

(1) S.C. Code Ann. Regs. 61-62.60, Subpart Cf. South Carolina Code Annotated Regulations, Chapter 61—Department of Health and Environmental Control, 61-62—Air Pollution Control Regulations and Standards, 61-62.60—South Carolina Designated Facility Plan and New Source Performance Standards, subpart Cf—Performance Standards and Compliance Times for Existing Solid Waste Landfills, effective November 26, 2021.

(2) [Reserved]

[FR Doc. 2024-04942 Filed 3-11-24; 8:45 am]

BILLING CODE 6560-50-P